DEPARTMENT OF THE INTERIOR

National Park Service

[NPS-IMR-ROMO-14032; PPIMROMO60, PAN00AN53.NM0000]

Grand Ditch Breach Restoration Final Environmental Impact Statement, Record of Decision, Rocky Mountain National Park, Colorado

AGENCY: National Park Service, Interior.

ACTION: Notice of availability.

SUMMARY: Pursuant to the National Environmental Policy Act of 1969, 42 U.S.C. 4332(2)(C), the National Park Service announces the availability of the Record of Decision for the Grand Ditch Breach Restoration, Rocky Mountain National Park, Colorado. On August 14, 2013, the Regional Director, Intermountain Region approved the Record of Decision for the project. As soon as practicable, the National Park Service will begin to implement the Preferred Alternative contained in the FEIS issued on May 31, 2013.

FOR FURTHER INFORMATION CONTACT: Ben Bobowksi, Division Chief, 1000 US Highway 36, Estes Park, CO 80517-8937, Telephone (970) 586-1206, romo_information@nps.gov.

ADDRESSES: Copies of the Record of Decision can be obtained from the contact listed above or online at http://parkplanning.nps.gov/romo or by email at romo_information@nps.gov.

SUPPLEMENTARY INFORMATION: The National Park Service (NPS) considered five alternatives for the restoration of the Grand Ditch breach. Alternative A, the no action alternative; Alternative B, minimal restoration; Alternative C, high restoration; Alternative D, the NPS preferred alternative; and Alternative E, maximum restoration. Alternative D, the NPS preferred alternative, is the selected action and will emphasize the removal of large debris deposits at the confluence of Lulu Creek and the Colorado River and in the Lulu City wetland. Actions will be conducted to stabilize limited areas of unstable 2003 debris deposits along slopes and banks throughout the project area. Stabilization actions will be implemented in areas with steep slopes, where vegetation has not reestablished since the 2003 ditch breach occurred, and outside the channel and floodplain that are not exposed to high flows. These actions will enhance hydrologic conditions and remove debris sources that could erode and be transported downstream as sediment causing continued degradation. Sediment would also be removed in localized areas along the Colorado River to reconnect the river with some previously blocked floodplain locations. Hydrology through the Lulu City wetland will be restored in the historical central channel through removal of large, localized deposits of debris and sediment, relying on the historical channel to transport river flow. Channel restoration will achieve stream channels that are more hydrologically and hydraulically stable and provide streambed and channel dynamic stability. Small-scale motorized equipment may be employed for stabilization and revegetation activities, while larger equipment may be employed for excavation of large debris deposits. The selected action represents basic hydraulic engineering requirements to ensure that flows are naturally conveyed within the stream channel cross-sections and that the channels will maintain hydrologic function, while accommodating the natural range of overbank flooding of adjacent floodplains and wetlands. The Record of Decision includes a statement of the decision made, synopses of other alternatives considered, the basis for the decision, a description of the environmentally preferable alternative, a finding of no impairment of park resources and values, a listing of measures to minimize environmental harm, and an overview of public involvement in the decision-making process.

Dated: December 10, 2013.
Colin Campbell,
Acting Regional Director, Intermountain Region, National Park Service.

[FR Doc. 2014-04472 Filed 2-27-14; 8:45 am]

BILLING CODE 4912-CB-P